DEPARTMENT OF THE TREASURY

Office of Thrift Supervision

[AC-04: OTS Nos. H-3668 and 14617]

Synergy Financial Group, Inc., Cranford, NJ; Approval of Conversion Application

Notice is hereby given that on November 12, 2003, the Director, Supervision Policy, Office of Thrift Supervision (“OTS”), or her designee, acting pursuant to delegated authority, approved the application of Synergy Bank, Cranford, New Jersey, to convert to the stock form of organization. Copies of the application are available for inspection by appointment (phone number: 202-906-5922 or e-mail: Public.Info@OTS.Treas.gov) at the Public Reading Room, OTS, 1700 G Street, NW., Washington, DC 20552, and the OTS Northeast Regional Office, 10 Exchange Place, 18th Floor, Jersey City, New Jersey 07302.

Dated: November 18, 2003.
By the Office of Thrift Supervision.
Nadine Y. Washington,
Corporate Secretary.

[FR Doc. 03-29191 Filed 11-21-03; 8:45 am]

BILLING CODE 6720-01-M